DEPARTMENT OF ENERGY

Federal Energy Regulatory Commission

[Docket No. EL04-36-000, et al.]

Consolidated Edison Company of New York, Inc., et al.; Electric Rate and Corporate Filings

December 16, 2003.

The following filings have been made with the Commission. The filings are listed in ascending order within each docket classification.

1. Consolidated Edison Company of New York, Inc., Consolidated Edison Solutions, Inc., KeySpan, Energy Services, Inc., Constellation New-Energy, Strategic Energy, New York Energy Buyers Forum, and Consumer Power Advocates, Complainants, v. New York Independent System Operator, Inc., Respondent

[Docket No. EL04-36-000]

Take notice that on December 15, 2003, Consolidated Edison Company of New York, Inc., Consolidated Edison Solutions, Inc., KeySpan Energy Services Inc., Constellation New-Energy, Strategic Energy, New York Energy Buyers Forum, Consumer Power Advocates (collectively referred to as Complainants) filed a Complaint against the New York Independent System Operator, Inc. (NYISO) requesting that the Commission direct the NYISO to: (a) Revise its calculation of the summer 2003 In-City Installed Capacity (ICAP) rebates such that it complies with the NYISO's Market Administration and Control Area Services Tariff; and (b) refund $20,835,249 to the Complainants.

Comment Date: January 13, 2004.

2. Ameren Energy Development Co., Ameren Energy Generating Co., Ameren Energy Marketing Co., AmerenEnergy Medina Valley Cogen, LLC, Central Illinois Light Co, AmerenEnergy Resources Generating Co., Union Electric Co.

[Docket Nos. ER01-294-002, ER00-3412-003, ER00-816-001, ER04-8-002, ER98-2440-003, ER04-53-002 and ER00-2687-002]

Take notice that on December 10, 2003, Ameren Energy, Inc. and the other affiliates of Ameren Corporation with market rate authority tendered for filing an updated market analysis in connection with their market-based rate authority.

Comment Date: December 31, 2003.

3. Devon Power LLC, Middletown, Middletown Power LL, Montville Power LLC, Norwalk Power LLC and NRG Power Marketing Inc.

[Docket No. ER03-563-025]

Take notice that on December 4, 2003, Devon Power LLC, Middletown Power LLC, Montville Power LLC, Norwalk Power LLC and NRG Power Marketing, Inc. (collectively, Applicants) and ISO-New England, Inc. (ISO), tendered for filing a report entitled “Review of PUSH Implementation and Results”, prepared by the ISO in compliance with the Commission's Order, issued July 24, 2003, 104 FERC ¶ 61,123.

Comment Date: December 29, 2003.

4. New York Independent System Operator, Inc.

[Docket No. ER03-647-004]

Take notice that on December 8, 2003, the New York Independent System Operator, Inc. (NYISO) submitted for filing its Installed Capacity Auction Activity (ICAP) report in compliance with Commission's Order issued May 20, 2003, 103 FERC ¶ 61,201.

Comment Date: December 29, 2003.

5. Citizens Communications Company

[Docket No. ER03-1235-001]

Take notice that on December 11, 2003, Citizens Communications Company (Citizens) tendered a filing in compliance with the Commission Order issued in Docket No. ER03-1235-000 proceedings on October 8, 2003 as corrected by the Commission's Erratum Order issued October 22, 2003.

Comment Date: January 2, 2004.

6. Indiana Michigan Power Company

[Docket No. ER04-125-001]

On October 31, 2003, Indiana Michigan Power Company, d/b/a/ American Electric Power (I&M) filed a third Revised Service Agreement No. 17 with the City of Gas City, Indiana under I&M's FERC Electric Tariff MRS, Original Volume No. 7 (Third revised Service Agreement No. 17).

Take notice that on December 10, 2003, I&M submitted a filing to provide a complete page and correct clerical errors contained in Service Agreement No. 17. I&M notes that it is submitting corrected information to be substituted for the version filed on October 31, 2003.

Comment Date: December 31, 2003.

7. Southwest Power Pool, Inc.

[Docket No. ER04-219-000]

Take notice that on November 24, 2003, Southwest Power Pool, Inc. (SPP) submitted for filing a Letter Agreement between Southwestern Public Service Company d/b/a/ Xcel Energy (SPS) and Caprock Wind, LP (Caprock) (collectively Parties). SPP states that the agreement provides for the performance of certain engineering and design activities by Xcel and the payment for such activities by Caprock relating to the proposed interconnection of a generating facility to be owned and constructed by Caprock. SPP Also states while it is not a party to this Letter Agreement, it is submitting the Letter Agreement on behalf of the Parties as the relevant Transmission Provider. SPP seeks an effective date of October 2003 for this Letter Agreement.

Comment Date: December 24, 2003.

8. PacificCorp

[Docket No. ER04-272-000]

Take notice that on December 8, 2003, PacifiCorp tendered for filing in accordance with 18 CFR 35 of the Commission's Rule and Regulations, a Generation Interconnection Facilities Agreement dated June 17, 2003 between PacifiCorp and Eurus Combine Hills 1 LLC and a Generation Interconnection Operation and Maintenance Agreement dated June 17, 2003, between PacifiCorp and Eurus Combine Hills 1 LLC and all related to Eurus Combine Hills 1 LLC's Combine Hills Turbine Ranch 1 wind generating facility.

PacifiCorp states that copies of this filing were supplied to the Public Utility Commission of Oregon, the Washington Utilities and Transportation Commission, and Eurus Combine Hills 1 LLC.

Comment Date: December 30, 2003.

9. Calpine Oneta Power, L.P.

[Docket No. ER04-279-000]

Take notice that on December 11, 2003, Calpine Oneta Power, L.P. tendered for filing, under Section 205 of the Federal Power Act, a rate schedule for system support services, whereby it would make available to Public Service Company of Oklahoma d/b/a American Electric Power, an emergency redispatch service.

Comment Date: January 2, 2004.

10. NorthWestern Energy

[Docket No. ER04-280-000]

Take notice that on December 11, 2003, NorthWestern Energy, a division of NorthWestern Corporation (NorthWestern), tendered for filing a Notice of Cancellation pursuant to 18 CFR 35.15, to reflect cancellation of the Non-Firm Point to Point Transmission Service Agreement between NorthWestern and Southern Energy Trading and Marketing, Inc., which now does business as Mirant Americas, Inc. The non-firm transmission service agreement is a conforming agreement under NorthWestern's Open Access Transmission Tariff. The agreement was executed July 10, 1996, but NorthWestern has never provided any service under agreement.

Comment Date: January 2, 2004.

11. ISO New England Inc.

[Docket No. OA97-237-000]

Take notice that on December 11, 2003, ISO New England Inc. filed its “Quarterly Report for Regulators,” as required by Appendix A to Market Rule 1, for the second quarter.

Comment Date: January 2, 2004.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E3-00631 Filed 12-23-03; 8:45 am]

BILLING CODE 6717-01-P